ENVIRONMENTAL PROTECTION AGENCY

[OPPT-2002-0005; FRL-7179-5]

Data Submissions for the Voluntary Children's Chemical Evaluation Program; Request for Comment on Information Collection Activities; Extension of Comment Period

AGENCY: Environmental Protection Agency (EPA).

ACTION: Notice; extension of comment period.

SUMMARY: EPA announced in the Federal Register a proposed information collection activity and a request for public comment for an Information Collection Request (ICR) entitled: Data Submissions for the Voluntary Children's Chemical Evaluation Program (VCCEP) (EPA ICR No. 2055.01, OMB No. 2070-tbd) on April 16, 2002 (67 FR 18609) (FRL-6832-8). In that Federal Register document, the Agency inadvertently provided the public with only 30 days to comment on the proposed information collection. Under the Paperwork Reduction Act (PRA) (44 U.S.C. 3501 et seq.), Federal agencies are required to provide the public with 60 days to comment when announcing a proposed information collection activity. This Federal Register document announces an 30-day extension of the previously announced public comment period.

DATES: Written comments, identified by docket ID number OPPT-2002-0005 and administrative record number AR-238, must be received on or before June 17, 2002.

ADDRESSES: Comments may be submitted by mail, electronically, or in person. Please follow the detailed instructions for each method as provided in Unit III. of the SUPPLEMENTARY INFORMATION. To ensure proper receipt by EPA, it is imperative that you identify docket ID number OPPT-2002-0005 and administrative record number AR-238 in the subject line on the first page of your response.

FOR FURTHER INFORMATION CONTACT: For general information contact: Barbara Cunningham, Acting Director, Environmental Assistance Division (7408M), Office of Pollution Prevention and Toxics, Environmental Protection Agency, 1200 Pennsylvania Ave., NW., Washington, DC 20460; telephone number: (202) 554-1404; e-mail address: TSCA-Hotline@epa.gov.

For technical information contact: Catherine Roman, Chemical Control Division (7405M), Office of Pollution Prevention and Toxics, Environmental Protection Agency, 1200 Pennsylvania Ave., NW., Washington, DC 20460; telephone number: (202) 564-8172; fax number: (202) 564-4755; e-mail address: roman.catherine@epa.gov.

SUPPLEMENTARY INFORMATION:

I. Does this Action Apply to Me?

You may be potentially affected by this action if you are a manufacturer or importer of certain chemicals and have volunteered to sponsor your chemical in the VCCEP. Potentially affected categories and entities may include, but are not limited to:

Type of business | NAICS codes
Industrial organic chemicals | 325
Adhesives and sealants | 32552
Paints and allied products | 32551
Textile goods | 313
Petroleum products | 42272

This table is not intended to be exhaustive, but rather provides a guide for readers regarding entities likely to be affected by this action. Other types of entities not listed in this table could also be affected. The North American Industrial Classification System (NAICS) codes are provided to assist you and others in determining whether or not this action might apply to certain entities. If you have any questions regarding the applicability of this action to a particular entity, consult the technical person listed under FOR FURTHER INFORMATION CONTACT.

II. How Can I Get Additional Information, Including Copies of this Document and Other Related Documents?

A. Electronically

You may obtain electronic copies of this document, and certain other related documents that might be available electronically, from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

B. Fax-on-Demand

Using a faxphone call (202) 564-3119 and select items 4089 and 4090 for a copy of the ICR.

C. In Person

The Agency has established an official record for this action under docket ID number OPPT-2002-0005 and administrative record number AR-238. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number for the Center is (202) 260-7099.

III. What Action is EPA taking?

EPA is extending the comment period for the following proposed ICR: Data Submissions for the Voluntary Children's Chemical Evaluation Program (VCCEP) (EPA ICR No. 2055.01, OMB No. 2070-tbd). EPA announced a 30-day comment period for this proposed ICR renewal in the Federal Register on April 16, 2002 (67 FR 18609). In that document, you will find a complete description of the ICR, as well as detailed instructions for submitting comments. This document announces a 30-day extension of the comment period in order to provide the public with 60 days to comment, pursuant to the PRA. Comments must be received on or before June 17, 2002.

As described in Unit III. of the document announcing the proposed ICR that published in the Federal Register of April 16, 2002 (67 FR 18609), you may submit your comments through the mail, in person, or electronically. Please follow the instructions that are provided in the document published on April 16, 2002. Do not submit any information electronically that you consider to be CBI. To ensure proper receipt by EPA, be sure to identify docket ID number OPPT-2002-0005 and administrative record number AR-238 in the subject line on the first page of your response.

IV. What is the Next Step in the Process for this ICR?

EPA will consider the comments received and amend the ICR as appropriate. The final ICR package will then be submitted to OMB for review and approval pursuant to 5 CFR 1320.12. EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

List of Subjects

Environmental protection, Reporting and recordkeeping requirements.

Dated: May 10, 2002.
Stephen L. Johnson,
Assistant Administrator for Prevention, Pesticides and Toxic Substances.

[FR Doc. 02-12266 Filed 5-13-02; 1:43 pm]

BILLING CODE 6560-50-S